DEPARTMENT OF COMMERCE

Bureau of Industry and Security

Announcement of Performance Review Board Members

AGENCY: Bureau of Industry and Security, Department of Commerce.

ACTION: Notice of Performance Review Board Membership.

SUMMARY: 5 CFR 430.310 requires agencies to publish notice of Performance Review Board appointees in the Federal Register before their service begins. This notice announces the names of new and existing members of the Bureau of Industry and Security's Performance Review Board.

DATES: Effective Date: The effective date of service of appointees to the Bureau of Industry and Security Performance Review Board (BIS PRB) is upon publication of this notice. The term of the new members of the BIS PRB will expire after two years in December 31, 2010.

FOR FURTHER INFORMATION CONTACT: Heidi K. Smith, Department of Commerce Human Resources Operations Center (DOCHROC), Office of Executive Resources Operations, 14th and Constitution Avenue, NW., Room 5015A, Washington, DC 20230, at (202) 482-1261.

SUPPLEMENTARY INFORMATION: The purpose of the Performance Review Board is to review and make recommendations to the appointing authority on performance management issues such as appraisals, bonuses, pay level increases, and Presidential Rank Awards for members of the Senior Executive Service. The Under Secretary for Industry and Security, Mario Mancuso, has named the following members of the Bureau of Industry and Security Performance Review Board:

1. Daniel O. Hill, Deputy Under Secretary for Industry and Security (New).

2. Matthew S. Borman, Deputy Assistant Secretary for Export Administration (New).

3. Kevin Delli-Colli, Deputy Assistant Secretary for Export Enforcement (New).

4. Gay G. Shrum, Director of Administration.

5. John J. Phelan, III, Director for Management and Organization (Outside

Reviewer).

Dated: October 14, 2008.
Deborah A. Martin,
Director, Office of Executive Resources Operations, Department of Commerce Human Resources Operations Center.

[FR Doc. E8-24831 Filed 10-17-08; 8:45 am]

BILLING CODE 3510-BS-P